DEPARTMENT OF ENERGY

Federal Energy Regulatory Commission

18 CFR Part 284

[Docket No. RM95-4-000]

Revisions to Uniform System of Accounts, Forms, Statements and Reporting Requirements for Natural Gas Companies; Correction

AGENCY: Federal Energy Regulatory Commission, DOE.

ACTION: Correcting amendment.

SUMMARY: This document contains a correction to a final rule (RM95-4-000) that the Federal Energy Regulatory Commission published in the Federal Register on October 11, 1995 (60 FR 53020). That action amended the Commission's Uniform System of Accounts.

DATES: Effective Date: July 5, 2006.

FOR FURTHER INFORMATION CONTACT: Sandra J. Delude, Federal Energy Regulatory Commission, (202) 502-8583.

SUPPLEMENTARY INFORMATION:

Background

The final regulations that are the subject of these corrections amended the Commission's Uniform System of Accounts, its forms, and its reports and statements for natural gas companies.

Need for Correction

As published, the final regulations contain an error which is misleading and needs to be clarified.

List of Subjects in 18 CFR Part 284

Continental shelf, Natural gas, Reporting and recordkeeping requirements.

Accordingly, 18 CFR part 284 is corrected by making the following correcting amendment:

PART 284—CERTAIN SALES AND TRANSPORTATION OF NATURAL GAS UNDER THE NATURAL GAS POLICY ACT OF 1978 AND RELATED AUTHORITIES

1. The authority citation for part 284 continues to read as follows:

Authority: 18 U.S.C. 717-717w, 3301-3432, 42 U.S.C. 7201-7352; 43 U.S.C 1331-1356.

§ 284.126 [Amended]

2. In § 284.126, paragraph (d) is removed.

Magalie R. Salas,
Secretary.

[FR Doc. E6-10468 Filed 7-3-06; 8:45 am]

BILLING CODE 6717-01-P